DEPARTMENT OF ENERGY

Federal Energy Regulatory Commission

[Docket Nos. ER06-615-012; ER07-1257-000]

California Independent System Operator Corp.; Notice of Technical Conference

September 11, 2007.

Take notice that Commission staff will convene a technical conference in the above-referenced proceedings on Wednesday, September 26, 2007, at 10 a.m. (EST), in Hearing Room 1 at the Federal Energy Regulatory Commission, 888 First Street, NE., Washington, DC 20426. If necessary, the technical conference will continue until 1 p.m. on Thursday, September 27, 2007 in the same location.

The Commission's September 21, 2006 order in this proceeding directed staff to hold a technical conference to help determine which practices or details remaining in the Business Practice Manuals (BPM) might appropriately belong in the MRTU Tariff.¹

¹ Cal. Indep. Sys. Operator Corp., 116 FERC ¶ 61,274, at P 1370 (2006).

Parties that plan to participate at this technical conference should submit a list of BPM provisions they wish to discuss by the close of business on Tuesday, September 18, 2007. This information should be filed in Docket No. ER06-615-012. All technical conference participants should be prepared to discuss specific BPM provisions as they relate to the proposed MRTU Tariff.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact Katherine Gensler at 916-294-0275 or katherine.gensler@ferc.gov.

Kimberly D. Bose,
Secretary.

[FR Doc. E7-18252 Filed 9-14-07; 8:45 am]

BILLING CODE 6717-01-P